FEDERAL COMMUNICATIONS COMMISSION

47 CFR Parts 1 and 20

[MB Docket No 11-43; Report No. 3081]

Petition for Reconsideration of Action in Rulemaking Proceeding

AGENCY: Federal Communications Commission.

ACTION: Petition for Reconsideration.

SUMMARY: A Petition for Reconsideration (Petition) has been filed in the Commission's rulemaking proceeding by Rick Chessen, on behalf of NCTA-The Internet & Television Association.

DATES: Oppositions to the Petition must be filed on or before October 18, 2017. Replies to an opposition must be filed on or before October 30, 2017.

ADDRESSES: Federal Communications Commission, 445 12th Street SW., Washington, DC 20554.

FOR FURTHER INFORMATION CONTACT: Lyle Elder, Media Bureau, at (202) 418-2365 or email: Lyle.Elder@FCC.gov.

SUPPLEMENTARY INFORMATION: This is a summary of the Commission's document, Report No. 3081, released September 21, 2017. The full text of the Petition is available for viewing and copying at the FCC Reference Information Center, 445 12th Street SW., Room CY-A257, Washington, DC 20554. It also may be accessed online via the Commission's Electronic Comment Filing System at: http://apps.fcc.gov/ecfs/. The Commission will not send a Congressional Review Act (CRA) submission to Congress or the Government Accountability Office pursuant to the CRA, 5.U.S.C. because no rules are being adopted by the Commission.

Subject: Video Description: Implementation of the Twenty-First Century Communications and Video Accessibility Act of 2010, FCC 17-88, published at 82 FR 37345, August 10, 2017, in MB Docket No. 11-43. This document is being published pursuant to 47 CFR 1.429(e). See also 47 CFR 1.4(b)(1) and 1.429(f), (g).

Number of Petitions Filed: 1.

Federal Communications Commission.
Marlene H. Dortch,
Secretary.

[FR Doc. 2017-21239 Filed 10-2-17; 8:45 am]

BILLING CODE 6712-01-P